DEPARTMENT OF THE INTERIOR

Fish and Wildlife Service

[FWS-R1-ES-2022-0169; ES11140100000-234-FF01E0000]

Candidate Conservation Agreement With Assurances for the Fisher in Oregon; Enhancement of Survival Permit Applications; Hampton and Starker Site Plans

AGENCY: Fish and Wildlife Service, Interior.

ACTION: Notice of availability; request for comments.

SUMMARY: We, the U.S. Fish and Wildlife Service (Service), received two enhancement of survival permit (permit) applications pursuant to the Endangered Species Act (ESA). If granted, the requested permits would authorize take of the fisher (Pekania pennanti), incidental to otherwise lawful activities, if the species becomes federally listed under the ESA. These applications are associated with a template candidate conservation agreement with assurances (CCAA) developed by the Service for the conservation of the fisher. We have also prepared draft environmental action statements documenting our preliminary determination that the permit decisions may be eligible for categorical exclusion under the National Environmental Policy Act. We provide this notice to open a public comment period and invite comments from all interested parties.

DATES: Submit written comments no later than February 21, 2023.

ADDRESSES:

Obtaining Documents: The applications, application supporting materials, and any comments and other materials that we receive will be available for public inspection at https://www.regulations.gov in Docket No. FWS-R1-ES-2022-0169.

Submitting Comments: To submit written comments, please use one of the following methods:

• Internet: https://www.regulations.gov. Search for and submit comments on Docket No. FWS-R1-2022-0169.

• U.S. Mail: Attn: Docket No. FWS-R1-ES-2022-0169; U.S. Fish and Wildlife Service Headquarters, MS: PRB/3W; 5275 Leesburg Pike, Falls Church, VA 22041-3803.

For more information, see Public Availability of Comments under SUPPLEMENTARY INFORMATION.

FOR FURTHER INFORMATION CONTACT: Frank Weaver, via telephone at 541-957-3471, or via email at Frank_Weaver@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have received two enhancement of survival permit (permit) applications pursuant to section 10(a)1(A) of the Endangered Species Act of 1973, as amended (ESA; 16 U.S.C. 1531 et seq.). The two applicants are Hampton Lumber (Hampton) and Starker Forest Inc./Starker Properties LLC (Starker).

If granted, either or both of the requested permits would authorize take of the fisher (Pekania pennanti) incidental to the applicants' routine forest-related management activities, if the species becomes federally listed under the ESA. Each application includes a proposed individual site plan developed under a template candidate conservation agreement with assurances (CCAA) developed by the Service in 2018 for the conservation of the fisher. The conservation measures in the CCAA are intended to provide a net conservation benefit to the species. We have also prepared draft environmental action statements (EAS) for our preliminary determinations that each of the two permit decisions is eligible for categorical exclusion under the National Environmental Policy Act (NEPA; 42 U.S.C. 4321 et seq.). We provide this notice to open a public comment period and invite comments from all interested parties regarding the documents referenced above.

Background

A CCAA is a voluntary agreement whereby landowners agree to manage their lands to remove or reduce threats to species that may become listed under the ESA (64 FR 32726; June 17, 1999). CCAAs are intended to facilitate the conservation of proposed and candidate species, and species that are likely to become candidates soon, by giving non-Federal property owners incentives to implement conservation measures for declining species. In return for managing their lands to the benefit of the covered species, enrolled landowners receive assurances that additional land, water, or resource use restrictions will not be required if the covered species becomes listed as threatened or endangered under the ESA, so long as the CCAA remains in place and is being fully implemented.

A CCAA serves as the basis for the Service to issue permits to non-Federal participants pursuant to section 10(a)(l)(A) of the ESA. Application requirements and issuance criteria for permits under CCAAs are found in the Code of Regulations (CFR) at 50 CFR 17.22(d) and 17.32(d).

Template CCAA for Fisher

The Service developed a template CCAA for the West Coast distinct population segment (DPS) of the fisher in Oregon. To comply with NEPA, the Service also issued a draft EAS for future issuance of permits under the finalized template. The template CCAA and the draft EAS were both made available for public comment via a Federal Register notice (81 FR 15737; March 24, 2016). The template CCAA and EAS were finalized and signed by the Service on June 20, 2018.

The template CCAA established general guidelines and identified minimum conservation measures for potential participants in the CCAA. Interested participants can voluntarily enroll their properties under the CCAA by developing individual site plans prepared in accordance with the provisions of the CCAA and submitting the site plans part of their permit applications. If granted, the permits authorize incidental take of the fisher with regulatory assurances to qualifying landowners who carry out conservation measures that would benefit the West Coast DPS of the fisher.

Proposed Actions

Starker and Hampton Lumber each submitted their applications on July 20, 2022, and July 21, 2022, respectively, for separate ESA section 10(a)(l)(A) permits under the template CCAA for the fisher for their identified lands in Oregon. Hampton Lumber and Starker are responsible for planning and carrying out forest management activities on their respective lands. Hampton Lumber seeks to enroll its controlled and managed Oregon timberlands in Clatsop, Columbia, Tillamook, Washington, Yamhill, Lincoln, Polk, Marion, and Benton Counties. Hampton Lumber lands total approximately 97,821 acres (ac) in many separate parcels. Starker seeks to enroll its controlled and managed Oregon timberlands in Benton, Lane, Lincoln, Linn, and Polk Counties. Starker lands total approximately 90,432 ac in many separate parcels.

The Hampton Lumber and Starker permits would authorize incidental take of the fisher until June 20, 2048, should it become federally listed and affected by the applicants' routine forest-related management activities on their properties. Fisher are not currently known to occur on the applicants' proposed enrolled lands within the West Coast Fisher DPS, but fisher may occur there in the future through translocation or range expansion.

Each of the two permit applications includes a distinct proposed site plan that describes the lands covered by the permit and the conservation measures required under the template CCAA that will be implemented on covered lands. The primary conservation measures provided in the site plans include:

• Allowing access to covered lands to conduct fisher surveys;

• Protecting fisher dens and their young by limiting disturbance and impacts to denning structures;

• Limiting control of other animals by trapping/nuisance that could pose a risk to the fisher (trapping of fishers is prohibited by State of Oregon law);

• Allowing the potential future translocation of fishers onto enrolled lands; and

• Promoting the development of habitat structures that would support the fisher.

Request for Public Comments

We invite public review and comment on the two permit application packages, including the individual site plans and draft EASs (see ADDRESSES). The final template CCAA and EAS that were finalized and signed by the Service on June 20, 2018, are also available for public information. You may submit your comments and materials by one of the methods listed in the ADDRESSES section. We request data, comments, new information, or suggestions from the public, other concerned governmental agencies, the scientific community, Tribes, industry, or any other interested party on our proposed Federal action, including on the adequacy of the site plans prepared in accordance with the template CCAA, pursuant to the requirements for permits at 50 CFR parts 13 and 17.

Public Availability of Comments

All comments and materials we receive become part of the public record associated with this action. Before including your address, phone number, email address or other personal identifying information in your comments, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Authority

We provide this notice in accordance with the requirements of section 10(c) of the Endangered Species Act of 1973, as amended (16 U.S.C. 1531 et seq.), and its implementing regulations (50 CFR 17.22), and the National Environmental Policy Act (42 U.S.C. 4321 et seq.) and its implementing regulations (40 CFR 1506.6).

Nanette Seto,
Acting Deputy Regional Director, Pacific Region 1, U.S. Fish and Wildlife Service.

[FR Doc. 2023-00896 Filed 1-18-23; 8:45 am]

BILLING CODE 4333-15-P